DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2016. For purposes of this listing, long-term residents, as defined in section 877(e)(2), are treated as if they were citizens of the United States who lost citizenship.

Last name | First name | Middle name/initials
AARON | EMMANUEL | DOMINIQUE
ABDALLA | ZEINA
ABDULLA | ALI | MOHAMED
ABOITIZ | SOFIA | ISABEL
ADAMS | ANTHONY | HAYWARD
ADAMSON | PAULINA | KRISTINE
ADSHEAD | PETER | NEIL
AGGARWAL | SONA | RAI
AHMED | EIFAZ
AHMED | MAHIR
AHMED | MOHAMMED | WAHEEB
AHMED | ZAHUR
AJAJ | DUHA | MOHAMMED
AKERMAN | PIA | LANDRIEU
AKERMAN | TESSA | AIRLIE
AL-DAKHIL | DHARAR | ABDULLAH
AL-GHAMDI | ABDULLAH | MOHAMMAD
ALIPOUR | MOHAMMAD
ALLEN | JESSICA | MYRIAM
ALLEN BIATEL | JENNIFER | RAHEL
ALLISON | WANDA | LOUISE
ALMASY | WARREN | MARK
AL-MAZEEDI | NAELA | MOOSA
AL-QASIMI | NOOR | FAHHIM
AL-QUAIMI | MOHAMMAD | JASSEM
ALRASHIDI | SALEM | TALAL
ALTMAN | LEE | WELLS
ALWAY | MARY | KATHERINE
ANAND | CHRISTOPHER
ANDERSON | LISA | YVONNE
ANDERSON | NAOMI | NADINE
ANDOR | CHRISTIAN | JOSEPH
ANDREWS | DAVID | STEFAN
ANDREWS | RONALD | LEE
ANIS | AHMAD | HUSSEIN
ANSEL | DOUGLAS
ANTONIETTI | ALEX | JULIEN
APPELS | BOUDEWIJN | BERNARD
AREGGER | FELIX | ANTON
ARIAS | ALEXANDRA
ARMSTRONG | ANN | CHRISTINE
ARNDER | ROBERT | LEE
ARNET | JARV IS | KASIMIR
ARYA | ANKUR
ASLAKSEN-SCHUERHOLZ | KATHRINE | DORIS
ASSI | EMANUELA
ASSI | UGO | AURELIO
AUGIS | BRIGITTE | LILLIAN
AWAD BEHBAHANI | BALSAM | MUHAMAD H N
AZOULAY | JEAN | MARC EMILE
BABIC | MARCO | STAN
BACHMAN | KARIN | BETH
BACHMAN | RODNEY | ALAN
BAER | JOEL | JULIUS
BAFICO SALICE | LINDA | MARIE
BAILEY | MARSHALL | CHARLES
BAISI | PATRICIA | ANN
BAKHSHANDEH | ALI
BAKHTIAR | SHAHRIAR
BAKKUM | KIMBERLY | ELLEN
BALLMER | CHRISTINA | MARIE
BAN | JAMES
BANG | HAE | OK
BAO | CHARLES
BAO | DOUGLAS
BAO | SHIRLEY
BARBOUR | NATALIA | ANA ARCILA
BARTLETT CASPARIS | HEATHER | MARIE
BARWICK | JAMES | DEAN
BASILE | RICCARDO
BASSAN | JACOBO
BASUALDO | LINDA | ANN
BATTEN | JAMES | ROBERT
BAULD | BONNIE | JEAN
BAUMANN | PETER
BAUMGARTNER | BARBARA | ANNE GLAETTLI
BAUR | DANIEL | JOSIAS
BAUR | JULIAN
BAZIN | EMILY | CLAIRE
BEACH | SCOTT | FREDERICK
BEATTIE | DONALD | ALLISON
BECHER | LORENZ | MARCUS
BECKER | BRITTA | ANNA
BEER | MICHAEL | BEAT
BEHBEHANI | SAYED | HAMID NASRALLAH
BEIQUE | PAUL | LOUIS
BEKAERT | DOMINIC | CU UNJIENG
BELL | JARED | HARRISON MICHAEL
BENSON | BYRON | ELLIOT
BERGE | TOM | DONALD
BERGMANS | NATHALIE | ANNE
BERKELEY | LISE
BERNARD | JAMES | CROTHERS
BERTING | ELIZABETH | MARION
BERTNER-MOATI | SARAH | LEYSHON
BETTS | SUZANNE | ELIZABETH
BETZ | MICHAEL | THOMAS
BEUTHE | BRITA | ORR
BICHELMEIR | PETER | JOHN
BIEBUYCK | FRANCESCA
BIGWOOD | SALLY
BISCHOF | STEVE | FRANCIS
BISHOP | JOAN | REMPLE
BLACKMUR | JUDITH | ANN
BLAIR | JOANNA
BLATT | RENE | HANS
BLEILER | TERESA | JO-ANNE
BLOCHLINGER | MARC | URS
BLOND | PIERRE-LOUIS | ANDREW
BODEUX | DOROTHY | MAY
BODIN | NOELIE
BOEHMER | EKKEHART
BOENI | CHRISTINE | SUSAN
BOER STALLMAN | DOROTHY | BUCKNER WESSELS
BOERLIN-LEUENBERBER | HEIDI | KIM
BOGART | LUDMILLA
BOGERT | DEBORAH | SUE
BOKHOVEN | JOACHIME | MARGARETHA LOUISE
BOLLI | DOMINIQUE | NICHOLAS
BOND | MICHAEL | EDWARD
BONSTEIN | HERBERT | SAMUEL
BORN | MICHELLE | LEA
BOTMAN | ADRIANA | CATHERINE
BOUMENDIL-KRON | AMELIE | THERESE
BOURGON | LUC | PIERRE
BOURRET | SUZANNE
BOVEY | CHRISTOPHER | BENEDICT
BOVEY | MARIA | THERESA
BOWERS | DAVID | ALAN
BOYD | SARA | LESLEY
BOZZINO | JULIUS | M
BRADER | LINDA | MARGRIT
BRANDT | JAMES | ROGER
BRANDT | MARY | ELIZABETH
BRANDWIJK | HENDRIKA | BERNICE
BRENNAN | MICHAEL | RONALD
BRENNER | STEVEN | ALAN
BRENNINKMEYER | CHARLOTTE | MARGARETHA
BRIGGER | CLAUDIA | MIRIAM
BRIMINGHAM | JENNIFER | LEE
BRISSON | MARCELLE | LILIANE
BRODER | HANS
BROMLEY | STEPHEN | ARTHUR
BROUWER | JITSKE | MARGARETHA
BROWN | CHARLES
BROWN | MICHAEL | PHILIP
BROWNE | LOIS | MARGARET
BRUGGER | ELISABETH | HELENE
BRUNIER | CHRISTINE | JOSIANNE
BRUNIER | ISABELLE | JOSETTE
BRUNSVOLD | RICHARD | ELDREN
BRYANT | JILL | MARY
BUCKINGHAM | CHRISTOPHER | EDWARD ROBERT
BUFFONE DASSIER | KATHLEEN | MARY
BULACH | ROSALYN | GALE
BURKARD | VERONIQUE | SOPHIA
BURKART | SYLVIA | ELKE
BURKE | KATHRYN | ALLISON
BUSH | CLAIRE
BUSH | HARRY
BUSSER | PETER | WILHELM
BUSWELL | SALLY | ANN
BUTLER | DEBORAH | LYNNE
BUTTERFIELD | DEBRA | MARY FRIEMANN
CABANA | FRANCINE
CALLAGHAN | KATHERINE | LINDSAY
CALLAHAN | DAVID | LEE
CALLOT | NADINE | ANDREA
CALVERLEY | PETER | CHARLES
CAMENZIND | PAMELA
CAMILLI | ANDRE | CHRISTOPHER
CAMP | DEBRA | RENAE
CAMP | KATHERINE | RUTH VIRGILS
CAMP | VAL | DEE
CAMPBELL | JOHN | MICHAEL
CAMPBELL | KATHRYN | GIBSON
CAMPBELL | ROBERT | MICHAEL
CAMPBELL-OTTEN | MARGARET
CAPPELLANIA | JERRY | DOMENICO GIUSEPPE
CAPT | GLORIA | NANCY
CARCIUMARU | GABRIEL
CARLETTI | LEO | RIVOLUZIO
CARRELL | ELIZABETH | ANNE
CARRELL | SARAH | JO
CARROLL | LORA | ANN
CARTER | JOAN | ELLEN
CASHMAN-PUGSLEY | SUSAN | LYNETTE
CASIER | GABRIELLE | MARIE JEANNE LOUISE CHISLAINE
CASPARY | MARTIN | RUDOLF
CASSINOS | SUZANNE | ALEXANDRA
CASTELNUOVO | BETHANIE | MARIE
CATHLES HAGEN | POLLY | RUTH
CATTANI | SACHA | MARGARET
CAYRE | PASCAL | ALAIN
CAYZER | AMY | LYNN
CEFIS | JAMES | BRUCE
CEREZO | NICOLAS | LAWRENCE
CHAFFEY | ROBERT | AMYON
CHAI | JAI | HYUN
CHAMBERS | DIANA | LOUISE
CHAMBERS | MELCHIOR | ANDRE RICHARD
CHAMBERS | PATRICK | MICHAEL
CHAMBERS | VERITY | SUSAN STOWELL
CHAMMAS | DYALA | EMILE
CHAN | CHEUNG | FU
CHAN | CHI | HOI
CHAN | GLORIA | YU
CHAN | JUDY | KAPUI
CHAN | KENDRICK | MARC
CHANDLER | PETER
CHANG | HOA-CHUN
CHANG | JAMES | SHO FINE
CHANG | JASON | K
CHARBIN | ELIANE | MARIE FRANCOISE
CHASE | JOANNAH | CHRISTINE
CHASE | KENNETH | HUESSY
CHATELET | AUDREY | LOUISE
CHEDAL VAN HANDEL | CHRISTIANE | ANGELA
CHEE-A-TOW, JR | RODNEY | WAYNE
CHEHABEDDINE | SAEB | FAROUK
CHEN | ADELE | PIN
CHEN | DAR | CIN
CHEN | ELINOR | JUIHUNG
CHENG | ERIC | WING HANG
CHEUNG | JOSEPH | YEE SHUN
CHIN | SHERMAN | C
CHIRATHIVAT | ISAREIT
CHIU | HERBERT
CHIU | YEE | YING
CHO | ALBERT
CHO | YOON-JE
CHOI | IAN | GAR-WAI
CHOU | FFU | HSIANG
CHOW | ANTHEA
CHOW | EDWARD | KYAIT HING
CHOW | ELAINE
CHUA | ANDREW | WAI KIONG
CHUA | CAROLINA | TANG
CHURCH | CATHERINE | SUE
CIECHANOWSKI | YOLANTA | MARYA ZOFJA
CLANCY | PAULA
CLARK | CHARLES | MATTHEW FLINTOFF
CLARK | MARY | ELIZABETH
CLARK | MATTHEW | BERNARD
CLARK | MICHAEL | THOMAS
CLARKE | JOHN | ELTON
CLARKE | RACHEL | SARAH
CLASSEN | BRIAN | JOHN
CLEMENTS | ANDREA | JANE
CLYBOUW | MARGARETA | ANTOINETTE P
COCKBURN | MEGAN | JANE
COFFMAN MAYER | BARBRA | ANN
COFLIN | JAY | HUGH ALEXANDER
COGHLAN | ALEXANDRA
COHEN | TATIANA
COHRS | CHRISTOPH
COLE | JENNIFER | MARGARET
COLE | KATHERINE | LYNNE
COLLAUD | CHRISTOPHE | SAMUEL
COLLIN | HEINRICH | HANS RUDOLF
COLLINS | LAURA | LYNN
CONNELLY | GILLIAN | LESLEY
CONNER | OLGA | VALERYEVNA
CONNORS | BRENDAN | MICHAEL
CONNORS | JOSEPH | MICHAEL
CONRAD | MONIQUE | LOUISE
CONTRERAS | ANGEL | BENNETT
COOK | CHERYL | ELLEN
COOK | DOYLE | BLAKE
COOKE | CAROL | MASZKA
COOPER | ADRIAAN | ANTONIUS
COOPER | JACQUELINE | AVISE
CORBETT | BRIAN | O
CORBETT | MAX | STUART
CORDOVA | GABRIEL | LEON
COREY | EDWARD | ALBERT
CORFF | SONDRA | CAROL
CORRADIN | ERIC | MATTEO
COSSON | NICHOLAS
COSTELLO ROMIG | CLAIRE
COTTIER | MARIE | BERNADETTE
COUDARI | SEVILLA | VALENTINE
COURTENAY | CHARLES | PEREGRINE
COWIESON | NANETTE | STEWART
COX | CHRISTIAN-ANN | FRANCES
CREAMER-BRAND | COLLEEN
CREASE | MALCOLM | ANDREW
CRISTOFARI | JEAN
CROOM | TIANA | ASHONI
CROSETTI | PASCAL | GILBERT
CROWELL | PETER | OTFRIED
CROWLEY | DALE | MICHAEL
CUA | SOLANA | LIBERTAD
CUSACK | MAUREEN
CUTMORE | GEORGE
DA ORO | RENAE | DIONNE
DALOZE | VINCENT | GILBERT
DANZER ERNST | ANNA | MAGDALENA
D'APICE | MARCUS | ALLAN PAUL
DARYANANI | ASHVIND | MOHAN
DAVEY | GINA | PULEO
DAVEY | JILLIAN | GLENNA
DAVIDSON | NORMA | FAYE
DAVIES | ANASTASIA | GABRIELLA
DAVIES | VAUGHN | LINDLEY
DAVIS | KIRK | JAMES
DE AQUINO | STEPHEN | MONTENEGRO
DE BAPTISTA | CAROLINA | GUIMARAES
DE BOER | IJSBRAND
DE BRABANDERE | ASTRID | BEA
DE CAPITANI | OLIVER | CHRISTIAN
DE GALBERT | EMMANUEL | PATRICK MARIE
DE GRAFFENRIED | CAROLINE | HELENE
DE LA CHEVRELIERE | DOMINIQUE | LOUIS AYME
DE LA CUESTA | IMANT | ODIN
DE LA GUARDIA | ILEANA | GRACIELA
DE LA GUARDIA LINARES | LORENA | ISABEL
DE LA MORINIERE | TANNEGUY | MARIE LE LIEVRE
DE LA VEGA | CHRISTOPHER | ANTHONY
DE LIEDEKERKE | CHARLES | ANTOINE
DE LOOF | KOEN | ARNOLD EMIEL
DE MESQUITA | SYLVIA | TESSA GOMEZ
DE SCHEPPER | JOHAN | JOZEF A
DE SENARCLENS | CAROLE
DE SUAREZ D'AULAN | KRISTEN | MARY
DE VENECIA | CHRISTOPHER | PEREZ
DE VIGNIER RILEY | KEVIN
DE ZEVALLOS | MERCEDES | ORTIZ
DEAK | JOSEPH | STEPHEN
DEAN | ROY | NICHOLAS
DEDERICHS | FRANK | PETER
DEEKER | KATHLEEN | MAY
DEESON | TIMOTHY | WILLIAM
DEGROOT | JOANNE
DEHALLEUX | CHLOE | CHRISTINE
DEIGHTON-SMYTHE | ZOE | MAY
DELAJARA | RAPHAEL | HYRAM
DELAMADELEINE-TILBURY | FLORENCE | YVONNE MOIRA
DELEAMONT | PIERRE-YVES
DELISLE | LUCIE | MADELEINE
DELMONTE | PIERO
DELORME | MELISSA | MARY
DEMAY | LINDA | FOLSOM HAIGHT
DEMCHICK | PAUL | HERMANN
DEMIRAY | TURHAN | HILMI
DENELL | ANGELA | INA
DENTON | ALAN | ERIC
DEPASQUALE | ANTHONY | RICHARD
DERCOLE | MARCO | OLINDO
DERRIEN | NATHALIE | RENEE LOUISE
DERUSHA STAFFORD | DEBRA-ANN | MILDRED
DETTLING | PAUL | PIUS
DEVOGEL | DOMINIQUE | CHRISTINE
DEVOR | AARON | H
DI BERARDINO | KRISTEN | ANN
DI MARE | MARCY | ANN
DIEBSCHLAG | PRYDERI | CLARE
DIETRICH | CHRISTOPH | CARL
DIETRICH | GILLES | NICOLAS
DIETRICH | LISA | MARIE
DIKE | DEBORAH | ANN
DIXON | LESLIE | HOPE
DOCKRELL | DERVILA | MARIE
DODDS | STEPHANIE | ELIZABETH HILTON
DOMMASCHK | ANNA | CAROLINE
DOORNBOS | MELLANY | FOKKO
DOUGLAS | JOSALEE
DOUVILLE | LUCIE
DOYLE-SCHELLER | CAROL | ELISABETH
DROUIN | RENEE
DRURY | CAROLYN | SAMANTHA
D'SOUZA | MARY | GABRIEL
DUBASH | LALEH | ARDESHIR
DUCHARME | MARIE | MICHELE
DUECK | KAYLEEN | L
DUFOUR | JEAN | RICHARD
DUISENBERG | PIETER | JACOB
DUNN | CLAUDETTE | ALMA
DUNNE | THOMAS | PATRICK
DUPONT | REBECCA | ANNE
DUROVIC | ILIA
DUTTON | JESS
DUZDABANIAN | GUY | HENRI
DYER | EMILY | PATRICIA
DYMENT | STEPHEN | JOHN
EADS | SAMUEL | GARRETT
EADS | STEPHEN | GARRETT
EARDLEY | ALAN | A
EAST | SOPHIE | VIRGINIA ADDISON
EBERSBERGER | LAURA | KAY
ECHARREN | ROSMARIE | SILVIA
ECKERT | LOWELL | EDGAR
ECKLE | KAREN | LEE
EDWARDS | ERIN | MARGARET
EGGENBERGER | CHRISTINA | LOUISE
EGGENSCHWILER | THOMAS
EGGER | JACQUELINE | ELIZABETH
EGOLF | SUSANA | PEVERINI
EICHENBERGER | HAZEL | A
EICHENBERGER | PATRICK
ELDER | NICHOLAS | WILLIAM
ELLIS | NICHOLAS | RAPHAEL
ELMANAWY | HANY | ADEL
ELNAGGAR | AHMED | KHALED
ELSA | MAXIMILIAN | STEWART D
ENDARA | CHANDRI | ALYNE
ENDERLE | WENDY | CHAMPNEY
ENDZWEIG | CHAIM | JACOB
ENGELHARDT | MARKUS | JOCHEN
ENGLER-GERSHT | NOGAH
ENGLISH | AMANDA
EPSTEIN | MARCIA | JENNETH
ERCHADI | ANITA | MARIA AHADZADEH
ERTL | ANDREW | MAGNUS WALTER
ERTL | JOACHIM | PHILIPP ALEXANDER
ESQUIBEL | AITOR
ESQUIBEL | ANA
ESTORICK | MICHAEL | JACOB
EVANS | CAROLYN | RUTH
EVANS | DIANA | HEATHER
EVANS | LORETTA | MAE
EVANS | WILLIAM | B
FAERBER | KIMO | JULIAN
FAERBER | LEON | CIDNEY
FAERBER | SILAS | MELVIN
FALK | DIANA | JEAN
FARRELL | ALANA | CHRISTINA
FARSEROTU | JOHN | ROLAND
FATSIS | THEODORE | MICHAEL
FEHR | ERIC | R
FEHR | JURG | PETER
FEINER | ADAM | SCOTT
FELDMAN | DANIEL | RIEVAN
FELDMAN | NAIDA | A
FELDMAN | TEVY | RYAN
FENG | HUINING
FERLAND | ANDREE | GISELLE MARY
FERLAND | JOCELYNE | MARIE
FERMAN MOORE | CAROLINE | LUCY
FERNANDEZ GARZA | JORGE | HUMBERTO
FINDLING | EDOUARD | THOMAS
FISCHER | ALEXANDER | KENCANA
FISHER | ANTHONY | KENT
FISHER | JORDAN | NEIL
FITZ | SEBASTIAN | REINHARD
FLACH | DIANE | ELIZABETH
FLANNERY | DANIEL | JOHN
FLATLEY | CHLOE | MICHAELA
FLESHMAN | DAVID | ROY
FLETCHER | JESSICA | ANN
FLORESCU | MADELEINE | LAUREN
FOLEY | PAUL | FRANCIS
FONG | JEFFREY | WILLIAM
FORESTER-MUELLER | SANDRA | MANUELA
FORSYTH | MARGOT | FRANCES KONTAK
FOSTER | ALICE | RITA
FOX | ROBERT | LOUIS
FRAMINGHAM | DALE | WAYNE
FRANK | BRANDON | MATTHEW
FRANKFURTER | ERNA
FRANKLIN JR | BOBBY | JOE
FREEMAN | RHONA | ROSS
FREEMAN | SHERRILL | BROOKE
FREY | PERRY
FREYTAG | RICHARD | BERND
FRIGAN | ANITA | LOUISE
FRITSCHI | SELINA | JENNIFER
FROIDEVAUX | ALAIN | MICHEL
FRYDBERG | JANA | RUTH
FUEGER | MONIKA | CORNELIA
FUGERE | ROBERT | WARD
FUKUTOME | SOPHIE | ASTA
FURMAN | SYLVIA
GAECHTER | CAROLE | JEANNE YVONNE
GALEMMO | JOSEPHINE | HELEN
GALLAND | JULIEN | ALEXANDRE
GALLI-ZUGARO | CRISTIANO
GAMBLE | CLAUDETTE | LOUISE
GARCIN | EMMANUEL
GARZA HERRERA | ANDRES | ENRIQUE
GASTALDON | ROBERTO
GAUDISSART | XAVIER | PAUL
GEDDES | JILL
GEISSBUHLER | ESTELLE | ALINE
GEISSBUHLER-MORF | JACQUELINE | LILLIAN
GENDROT | BENOIT | NORBERT
GERBER-BAUMGARTNER | SANDRA | ANETTE
GERITS | BENOIT | JOSEPH
GERMUNDSON | STEPHAN | NILS
GHEKIERE VAN LANDUYT | FRANCESCA
GIACOMINI | MARIE | RENEE
GIBBONS | CLARE | ANTONIE
GIBSON | CHRISTOPHER | EDWARD JESUS
GIESENBERG | ALEXANDRA
GILBERT | CANDACE | BENTON
GILBERT | CAROL | ANN
GILES | JENNIFER | GARRATT
GILLETTE PARDOI | LINDA | JEAN
GILMOUR | JOHN
GILPIN | LYNDA | ANN
GIROLAMI | PHILIPPE | FRANCIS
GIUBELLINI | ALICE
GLADSTONE | MICHAEL | SEBASTIAN
GLASTRA | TACO | HENDRIK
GLOOR | PETER
GOEMAERE | ELODIE
GOENKA | PAWAN | KUMAR
GOHARI | SARAH | GARGASH
GOINS | RODNEY | KENNETH
GOLD-MIRE | MICHELLE | HEATHER
GOLDSTEIN | GAYLE | ROSE
GOMES | ANA | PAULA MIZUTA
GONZALEZ | TOMAS | ROBERTO
GOOD | ROSEMARY | ANNE
GOODELL | ROBERT | FREDERICK
GOODWIN | MAUREEN | ELIZABETH
GORICK | GREER | HELEN
GOTZ | CHRISTINE | MARIANNE
GOULD | RUTH | LEONA
GRADISHER | JAMES | JOSEPH
GRAF | SEBASTIEN | PIERRE
GRANT | VIRGINIA | LILY
GRAVES | STANLEY | MORTON
GREGG | JOANNE
GRIFFIN | CHARLES | DANIEL
GRIFFIN | JILL | ST. CLAIR PRATT
GROENENDIJK | HENDRIK | ARIE
GROPIUS | PETER | KLAUS
GROS | ALEXANDRA | MATTMANN
GROSVENOR | GABRIELLA | MARGUERITE
GRUENDORFER | STEPHAN | WILLIAM
GRUENIG | DOMINIK | FELIX
GRUNDY | NICHOLAS | MORRISON
GUILARTE | YUVIA | NAOMI
GULISEK | TOMAS
GULISKOVA | PATRICIA
GURNANI | NEHA | AROON
GUT | ALINE | OPHELIA
GUT | ALTHEA | MELANIE
GUT | ANAIS | CHARLOTTE
GUTMAN | ANTHONY | JOHN CHARLES
GYGI | KIMBERLEY | VICTORIA
GYLES | BRIAN | ROBERT
HAAG | INGER
HAAS | PETER | GUSTAV
HADDAD | FARES | NASRI
HAEFELI | ANDREAS
HAEGELI | ANOUK | SIMONE
HAERTSCH | EDITH
HAERTSCH | PETER
HAESSLER | GABRIELA | SYLVIA
HAFIZOVIC | KAMBER
HAIDAR | AYA
HAMA | ANGELA | MICHIKO
HAMANN | DANIEL | JOHN
HAMBURGER | NIKOLAUS | PETER
HAMERSLEY | LESLIE | CARRE
HAMMERSCHMIED | HANS | HEINRICH
HANNY VOLMER | SABINE
HARP | DONNA | LYNN
HARRELL | REGINA | LEIGH
HARRINGTON | BRANDI | JO
HARRINGTON-JONES | ROBERT | DAVID
HARRIS | DORIS | JEAN
HARTMANGRUBER | MICHELE | MARIE
HARTMANN | SONIA | IVANNA
HARTWICK | PHILIP | THOMAS
HAYES | ANNA | MAGDALEN
HEAD | THOMAS | HARRISON
HEALY | ALEXANDRA
HEBBERT | JEANETTE | BYNES
HEHR-DESI | ELIZABETH | WHITAKER
HEINRICHS-GALE | ANNA | MAE
HEINZER | RAPHAEL | CHARLES
HEINZER-IMMOOS | SILVIA | THERESA
HEITZER | ELIZABETH
HELD | DOUGLAS | FREDERICK
HELLER | EVA | REGULA
HEMME | ILSABE | ISA
HENDRICKX | MICHAEL | EDWARD
HERRON, JR | WILLIAM | ROBERT
HERSCHKOWITZ | ELINORE | ROSE
HERSMAN | FRANK | ERIC
HESSLER-BITTL | DIANE | PATRICIA
HICKS | BRIAN | MICHAEL STEPHEN
HICKS | RONALD | GENE
HILL | CHRISTOPHER | ALEXANDER
HILL | PAMELA | SUSAN
HILLIARD | RICHARD | SCOTT
HINCH | HARRY | BRITTREN
HO | DEBORAH | MAI-JONG
HO | LEO
HO | RICHARD | CHI YUNG
HODDER | ELIZABETH | ANNE
HODDER | LESLEY | ROSE
HODSON | PATRICIA | MARGARET
HOENIG | GREGORY | ANTHONY
HOESSLY | CHRISTIAN | MARTIN
HOFBAUER | NANCY | JEAN
HOFMANN | JASMINE | TERESA
HOHL | EDMUND | HARRY
HOLCOMB | RICHARD | STEWART
HOLD | ELEANOR | COTTLE
HOLLAND | CHRISTINE | MIRANDA
HOLTAWAY | GERALD | THOMAS
HOLTER | ANNE | LISE
HOLTER | KRISTIN | MARIE
HOLTZMAN | MARC | LAWRENCE
HOME | JANET
HOMSANY | EDMOND | MAURICE
HONDERICH | ROBIN | CHRISTIAN GOVIER
HONE | DIGBY | GIES
HOOKS | JOHN | MICHAEL
HOPE | ALEXANDER | JAMES
HORNG | DAVID
HOTTINGER | JULIAN | THOMAS
HOTZ-REUSSER | CLAUDIA | JOANNE
HOWARD | DAVID | PATTERSON
HOWAT | JUSTIN | KAY
HSIN | FANNEAU | CHING
HSU | EN-CHI | EMMANUEL
HU | PHILIP | QI XING
HUANG | ALICIA | LING
HUANG | DOROTHY | JANE
HUANG | TIMOTHY | C
HUBER | HANS
HUELS | PETER | MAX
HUERTA | PAULA
HUGGINS | JOHN | GERARD
HUGHES | BRANDACE | ALYCE
HUGHES | GINA
HUIE BRICKERT | CLAUDE | YVONNE ODILE
HUNT | MARY | ELIZABETH
HURLIMANN | CHRISTINE | NICOLE
HUTCHINSON | DANIEL | BROCHWICZ
HUTCHISON | VIVIENNE | AUDREY
HWANG | CURTIS
IERVASI | ARMANDO | EMILIO
ILLING | CHRISTINA | MARIE
IMAYOSHI | LAURA | TODD
INCHAUSTI | MARIA | DEL PILAR
INNES | JAMES | DONALD
IRRIZARRY | SARAH | ANGELIKA
IRVINE | ARTHUR | BARRY
IRWIN | THOMAS | WILLIAM
ISELI | FRANCE-LAURENCE | LINDA PATRICIA
ITESCU | SILVIU
IVERSON | VICTORIA | MARIE
JACOBS | SARAH | J
JAEGER | SUSAN | ELIZABETH
JAGGER | WILLIAM | STALLARD
JAGGY | PETER | JOSEPH LEO
JAIN | ALPANA
JAKOB | CYPRIEN | LYLE
JAKOB | DANIEL | DANNY
JAQUET | CELINE | DIXIE
JARVIE | CHRISTINE | MARIE
JENKINS | MARYALYCE | REED
JENNER | VIRGINIA | ASHLEY
JENNI | VANESSA | BLAKE
JEWEL | MARK | HERBERT
JOHNSON | KIRSTIN | ELIZABETH JEFFREY
JOHNSON | MICHAEL | PETER
JOHNSON | ZACKERY | MELVIN
JOHNSTONE | DIANA | MAUDE
JONES | ALISON
JONES | DEBORAH | CECILY
JONES | ENRIQUE | PIEDRA
JONG TO | SARAH | WING
JOOS | CASSANDRA | LOUISE
JORDAN | JOHN | EVERETT
JOSEPHSON | JOYCE | ELLEN
JOUMAA | ALISON | DARRAH
JOVANOVIC | TRISTAN | MARK
JUENEMANN | ERIKA
JULIEN | BRIANNA | M
JUNG | DO | HYUNG JOSHUA
JUNOD PERRON | NOELLE | ASTRID
JUTER | KLAS
KAMARUDDIN | SAMIA
KAMINSKI | LYNN | HOPPE
KANG | ESUN
KANG | MICHAEL
KANKE | DOROTHY | LYNN
KANTILAL | RAJESHKUMAR | NARESHCHANDRA
KAO | ALLEN | SHIH-CHI
KAULISCH | AXEL | MATTHIAS
KAZIM | FARYAL | GARGASH
KEATING | AMBER | ARLENE
KEATING | FREDERICK | MICHAEL
KEEVIL | SUSAN | JILL
KELLS | ZOE | SAMANTHA
KEMP | ROBERTA | KIM
KEMPE | PETER | BENJAMIN
KENNARD | TERESA | CHANDOS
KENNINCK | SARAH | PAULINE
KENT | ELIZABETH | ANNE
KERR | CARRIE | DUNCAN
KERR | MARIE | LORRAINE
KESARLA | JYOTHSNA
KESTIN | MARK
KHOURY | RAMSEY | GEORGE
KHURI | AL | ZIYAD
KILIAN II | LUDWIG | ALLEIN
KIM | ANDREW | SUNWOO
KIM | JONATHAN | GIANT
KIMURA | MARIANNE
KING | DAVID | MICHAEL
KINGHORN TAENZER | APRIL | LAURA
KIRALY | SUZANNE
KLASSEN | BRENT | DOUGLAS
KLEES | BRADLEY
KLEINE | HANS | GEORG
KLINE | PATRICIA | LYNN
KNELL | STEFAN | ROLF
KNIGHT | RICK | MALONEY
KNIGHTS | SANDRA | DENISE
KNOBEL | REGINA
KNOCKAERT | VERONIEK | MONIQUE ESTHER
KOBELT | GEOFFREY | MICHAEL
KOBELT | JENNIFER | MICHELLE
KOBELT HAUGE | KAREN | ELAINE
KOBLET | MARTIN | ROBERT
KOCH | LORNA | IRENE
KOEHLER | EVAN | GRANT
KOENIG | JOAN | ANNE
KOHLER | SANDRA | JENNIFER
KOLFF | ADRIAAN | QUIRIJN
KONG | CHARIS | CHI YAN
KONG | JANESSA | HUIXIAN
KONG | NIKOLAS
KOPPEN | HENRY | ANDREAS
KREITZER | LINDA | MARLENE
KRENGEL | ELIANE | RUTH
KROEHN | HELEN | NORMA
KROHN | TAYLOR | AMANDA
KUBBA | LAITH | JOHN
KUBBA | WAYIL
KUEI | MICHELLE | MIN-HSUAN
KUHL | SIMONA | JANINE
KUHN | STEFAN
KUNST | MARIA | ANNA CONSTANTIA
KUNZ | CLIFFORD | FELIX
KWOK | CLARENCE | BRYANT
KWOK | STEPHANIE | HIU WAI
KYRIACOU | DEMETRIS | P
LACROIX | ANNE-SYLVIE
LAD | HITESHKUMAR | BHAGVANJI
LAELY | RIA-LADINA | SANDRINE
LAFLAMME | MARTHA | EILEEN
LAI | CHI | KIN WILLIAM
LAIK | MONICA
LAKHANI | FATIMA
LALJI | FAAIZA
LAM | CRYSTAL | THAO
LAM | MANDY | JOSEPHINE
LAMOTHE | JEREMY | MICHAEL
LANDES | SUSAN | LARSON
LANDES III | PAUL | TODD
LANDIS | ANDREAS | MARIUS
LANGILLE | JUDITH | DIANE
LANGLOIS | NATALIE | DENISE
LANIER | SARA | CRAIG
LARRINAGA | ADAM | CHRISTOPHER
LARRINAGA | STEPHANIE | NICOLE
LAU | JASON
LAU | JEROME
LAU | REBECCA | SEE-KIT
LAW | KEVIN | KA LUN
LAZZARELLI VETTIGER | KIM | LOUISE
LEBELLE | CLAIRE | HELENE
LEE | AARON | HANOOL
LEE | ANDREA | YING
LEE | BRIAN
LEE | CAROLINE
LEE | CHAN | YOUNG
LEE | CHIH-KUNG
LEE | CHUL-JOO
LEE | EUI | NAM
LEE | JIN-SOO
LEE | JOON | H
LEE | JOSEPH
LEE | JULIAN | DAVID
LEE | MICHELE | YEEUN
LEE | RICHARD | JOO HWAN
LEE | ROANNA | OI WEI
LEE | RYAN | HIAN HAO
LEE | SANGKYOUNG
LEE | TERESA | YUAN NING
LEEK | SUSAN | ELAINE
LEENDERTZ | VIKTOR | NIKOLAUS
LEHMANN | KAREN | PAULA
LEIMER | RENATA | ELIZABETH
LEMER | MIRIAM | MANDA
LEONG | KATELYN | WAN-YI
LEROY | PEGGY | CARINE
LEUKERS | HANS | CHRISTIAN
LEUNG | YVONNE | WANG
LEUTHOLD | NICOLE | ANNE
LEWANDOWSKA | ELIZA
LEWIN | CARMEL | KEREN
LEWIS | ROBERT | ALEXANDER
LEZIUS | MATTHIAS | AXEL PHILLIP
LI | ANNA | YAU YU
LI | VICTORIA | KENG YEE
LIAO | MING
LIAW | JANIE
LIDDELL | RAE | MARIE
LIEDL | DAWN | VALERIE
LIGHTFOOT | ANN | MUIR
LIM | SHENG | HUI
LIM | SUZANNAH | BEE HWA
LIMOGES | ANDRE | JEAN
LIN | HSIN-PEI
LLAMANZARES | TEODORO | MISAEL DANIEL
LLOREDA | MAURICIO
LO | AGNES
LOEB | STEVEN | IRAI
LOH | ASHLEY | SHIHUI
LOPEZ | ROBERTO | JAVIER
LORENZO | JOSEPH | HENRY
LOW | LUIS | PATRICK
LOWENTHAL | JAN | MAUREEN
LUCCIOLI | CLAUDIA | MARIA
LUI | JONATHAN | JUNYAN
LUNNY | WENDY | HELEN
LUTTERBECK | DEREK | STEVEN
LYEN | STEPHEN | MARK MENG TUCK
LYONS | CHRISTOPHER | JOSEPH
MA | JUI-CHEN | RICHARD
MAARIJ | NURISHA | AFFA
MAC NAUGHTON | CHRISTOPHER | ANTHONY
MAC NAUGHTON | LUKAS | MICHAEL
MACARAS | JESSICA | ERIN
MACDONALD | LINDA | DAVIS
MACDONALD | LINDA | SUSAN ELLIS
MACH | FRANCOIS | ALEXANDRE
MADANAT | SAHAR | ANIS
MADJELISI | ALYSSA | BINTE ALI
MADURO | LYNDA | FIDANQUE
MAEHLY | MICHAEL | ANDREAS
MAHLER | KRISTINA | ANDREA
MAINWARING | ANDREAS | PAUL
MAK | ESTHER | EN-HUA
MALAMA | ANNINA | DELIA
MANZ | JOELLE | SARIT
MAPOLES | SHAWN | LOUIS
MARANTZ | KILIAN
MARCHAND | KRISTIN
MAROZEAU | MAUREEN | ODETTE KATHERINE
MARR | ANNE
MARSH | INGE | ANNEMARIE
MARTEL | CARLOS | ERIK
MARTIN | LESLIE | ELLEN
MARTINEZ | AZUCENA
MASON | DAVID | HERBERT RICHARD
MASON | WILLIAM | BRUCE
MATHIEU | CHRISTOPHER | PAUL CHRISTIAN
MAY | JONATHAN | STONE
MAZZEI | EUGENE | SAM
MCCORMICK | EDITH | ELLEN
MCCORMICK | FINLAY | ADEN
MCDONALD | GAIL | HELEN
MCDONALD | SHEILA | MAY
MCDONALD | SUSANNE
MCDOWELL | TERESA | RACHEL
MCGONIGAL | DAVID | IAN
MCGUIRE | MARTIN | WALSH
MCKAY | DAVID | ANDREW
MCKINLEY | REBECCA | KAE
MCLOUGHLIN | KEVIN | MICHAEL
MCMECKAN | DOUGLAS | HUGH
MCVICKER | JOHN | ALEXANDER
MEAN | NATHALIE | BEATRICE
MEANEY | LEONARD | ERNEST
MEARS | REBECCA | ADAMS
MEHTA | HINA | SACHIN
MEIER | DANIEL | ERNST
MEINERS | RAYMOND | GERHARD
MENDEZ LLERA | ROSA | ANA
MERCIER | CAROLINE | HELENE
MESSICCI, JR | JOHN | ANTHONY
MEYNARD | ANNE | LAURA
MICHL | CHARLES | JOSEPH
MILANESE | PAUL | CHARLES
MILLER | KEITH | LAWRENCE
MILLONIG | RAFFAELA | CHRISTINA
MIMS | CATHERINE | HENRIETTE JACQUELINE
MINCHIN | KATHLEEN | MAIRE
MINGARD | SUSAN | CLARE
MIRE | CHARLES | ALAN
MIRO | PAULO
MITCHELL | AITEINA
MITCHELL | MARTHA | ANNE
MITICH | MICHAEL | ANDREW
MIZZELL | JANE | ELLEN
MOCARQUER | SEBASTIAN
MOECKLI WEBSTER | ROBIN | KRISTEN
MOFFAT | WANDA | MAE
MONTAGU-WILLIAMS | REBECCA | KAREN
MOORE III | WILLIAM | RAYMOND
MORALES | DIANE
MOREN | SHARON | ANN WINKLER
MORGAN | EUGENE | LAWRENCE
MORRIS | CATHARINE | JOACHIM
MORRISON | DONALD | SCOTT
MORTON | MELANIE | CLAIRE
MORTON | PHILIPPA | JANE HANDYSIDE
MOSCA | NICOLA
MOSKOVITZ | DAVID | ARI
MOSSERI-MARLIO | JENNIFER | OLIVIA
MOUYNES | RAMON | CRISTOBAL
MUELLER | ERIC | MATTHEW
MULDER | CARL | FRANK
MULVANEY | KEVIN | JAMES
MURDOCH | COLIN | DOUGLASS
MURDOCK | CHRISTOPHER | DONALD ROSS
MURDOCK | JOANNA | ALEXANDRA BOUCHER
MUTTITT | SARAH | EMMA
NABEEL AL-MANNAE | ABDUL | RAHMAN
NAEF | CHANTEL | AVALON
NARISHKIN | MARINA | NATHALIE
NASSIER | MIHAAD | M
NAZARCHUK | COLLEEN | LOUISE
NEILL | JOYCE | EILEEN
NELLIS | JULIE | ANN
NELSON | BARBARA | MANN
NELSON | COREY | ROGER
NELSON | DIANNE | ELIZABETH
NEUHAUS | GABRIELA | MARTINA
NEWMAN | LEAH | ALEXANDRA
NEWTON | BRIAN | JOHN
NG | EVA | YEE-WAH
NG | NICHOLAS | TIAN JUN
NG | YUK | CHING CHAN
NICHOLSON | LINDA | JOAN
NIGGLI | BRYAN | DENNIS
NIJE | KAREN | JACQUELINE
NIJE | MINKE | LIESBETH
NISBET | EVEONNE | MERLE
NULTY | WILLIAM | GEORGE
OBERDORFER | HENRY | GEORG
O'BRIEN | STEVEN | JEFFREY
O'BRIEN | WILLIAM | HAY
O'DOWD | DAVID | EDWARD
OETKER | CARL | CHRISTIAN
OH | MYUNG | HEE
OHTA | TOMOKI | BRIAN
OKEEFFE | EILEEN | MARGARET
OKUYAMA | MUTSUMI
OLDSBERG | BENGT | VIKTOR
OLLIVIER | HELYETT | HELENE
OLSEN | PHILIP | JOHN
OLSON III | MELVIN | PORTER
OMALLEY | MARY | DEIRDRE
ONG | CODY | WAI
OPPRECHT | JONATHAN
ORAA | ISABEL | LEONORE
ORIOL | FELIPE | AUGUSTO
ORMSTON | DOMINIC | PETER
ORNATOWSKI | DANIEL | KEI
OSTERWALDER | RACHEL | BETTINA
OSWALD | PHILLIP | DOMINIK
OTAKY | AMEER | NICOLAS
OTTMANN | OLIVER | GERHARD
PAIK | DONNA
PAN | GEORGE
PANG | CHIN | HENG RYAN
PARK | CHAN | JOO
PARK | REGINA | EONBYEL
PARMAR | JENNIFER | DAVIS
PASCHE | GENEVIEVE | CLAIRE
PATEL | INDUBEN | BHANUBHAI
PATEL | MANISH
PATEL | SHARAN | MEHUL
PATEL | SHIVAM | MEHUL
PATERNOGA | ISA
PATIENT | MARIE | CARINNE DENISE
PAWELEK | RICHARD | ANDREW
PEARSON | ROBERTA | ELLEN
PECORELLA | ALEXANDER | GABRIEL
PEETERS | KAREN | KRISTIN
PEGG | TARALIN | ANN
PENNEY | CHELSEA | ELIZABETH
PEREIRA | ANTONIO
PETER | MARKUS | ANDREAS
PETER | OLIVER | JOHN
PETIT | MARK | ERWIN
PETTMAN | MARK | CHRISTOPHER
PIANETTI-BERTHOLDS | IRENE
PICCIOTTO | GRACIA
PICKETT | STACIA | SARAH
PILCHER | TIFFANY | MARIE
PLANT | DANIELLE | MARIE
PLANTENBERG | GWENDOLYN | RENSKE
PLATT | ROBERT | WILLIAM
POLLET | JEAN | CLAUDE
POPOV | VALERIU
PORSBERG | VANESSA
POST | JOANNE | NATALIE
POSUS | NOEL | TIMM
POZZA | EVA | MARIA
PRANKERD | JOANNE | MARIE
PREINDL | LUCAS | MARKUS
PRESTON | EVELYN | LEIGH
PRETOR-PINNEY | GILES | WINTHROP
PRINDLE | LYNN | VIOLA
PROBER | NANCY | GAIL
PROBST | ALIA | SUZANNE
PROBST | VALERIE
PURCELL | JENNIFER | SARAH
PUSHMAN | ROBERT | DUNCAN
QIRBI | RIYAN | LABEEB
QUAN | PETER | PHILIPPE
QUANCE | MARILYN | JEAN
QUEEN | ALVIN | LEROY
RAJABALI | NISHA | AMIRALI
RAMU | PRIYA
RANT | JANET | MARIE
RAVINDRAN | KUPPUSAMY
RAYNERI | MARIA | ELENA
REAL | EDUARDO | ANTONIO
RENFRO | CHRISTINE | ANN
RESCH | ANNE-KRISTIN
REUBEN | DAVID | ALEXANDER
REUSSER | PETER | JOHN
REVKIN | SUSANNAH | K
RIBARDO | RICHARD | JAMES
RICKARD | KIMBERLEY | ANNETTE
RIKER | ROBERT | RAY
ROBERTON | SUSAN | RACHEL
ROBERTS | EMILY | CATHERINE
ROBERTS | MARGARET | ANN
ROBERTSON | ANDREA | LEIGH
ROBINSON | MARLENE | CHERYL
ROBINSON | SVEND | JOHANNES
RODENBERG | BASTIAAN | ALEXANDER
ROSENBAUER | JUDITH | URSULA
ROSKELLY | SUSAN | ALISON
ROSS | JAMES | ALEXANDER
ROSSI | DONNA | R
ROTSAERT | CYNTHIA
ROTSTEIN | BENJAMIN | ABBA
ROX OGINO | MELISSA | MIYUKI
ROY | JANICE | JOURDAN
ROY | RONALD | PAUL
RUBLI NIEBEL | ANDREA | CORNELIA
RULE | GEORGE | BENJAMIN
RUMSEY | SHARON | RAE
RUNGTA | ANIL | K
RUSS | JOEL | BERNARD
RUTHERFORD | MICHAEL | JAMES ANTHONY
RYERSON | OVE | KJELL
SAARINEN | GLADYS | ODERAY
SABAN | ISAAC | MOSS
SABATE | FRANCOIS
SAFFER | MICHAEL | IAN
SAHENK | DEFINE | DIANNE
SALAZAR | SONIA | VINDAS
SALLOT | JEFFRY | GEORGE
SALOMON | JOHN | MORGAN
SALVARY | ROXANNE | THERESA
SANDEL | YISROEL
SANDERS | TIMOTHY | PATRICK
SANFORD | ROBERT | GENE
SAPIR | JACQUELINE | ESTHER
SARASIN | LUCY | VICTORIA GRACE
SARASIN | NICHOLAS | JAMES ERIC
SARASIN | ROBERT | ANTHONY WILLIAM
SATO | YURI
SAUNDERS | LINDA | CAROL
SAUTER | KYM | MARTINE
SCHAAD | ALEX | ERIC
SCHACHTER | KAI | GABRIEL
SCHAEPPI | SANDRA | ELISABETH
SCHAICH | SIMON | ANDREAS
SCHAT | ALIDA | DEBORAH
SCHELLER | LORIANNE | NISSA
SCHEPENS | ANGEL | LORRAINE
SCHIEMANN | NATALIE | KATHERINE
SCHIFF | JONATHAN | JAMES
SCHITTKO | CHARLOTTE | MARIE
SCHLAURI LEBER | BARBARA | ELENA
SCHLOSS | SONDRA | MARCELLE
SCHMEHL | OTMAR
SCHMID | CATHERINE | ANN
SCHMID | IRENE | HEDWIG
SCHMIDLIN | LISELOTTE
SCHMIDT | DIERK-STEFAN
SCHMIDT | PAULA | CHRISTINE
SCHMIDT | RUDOLPH | PAUL
SCHNEEBERGER | RALPH | ERNST
SCHNEIDER-WENK | CLAUDIA
SCHNEIDEWIND | SIMONE | BETTINA
SCHOCH | NATALIE
SCHOENENBERGER | PETER | ANDREAS
SCHOENER | ULF | JOERG
SCHRAG | LISA | GAIL
SCHROEDER | GERNOT
SCHUBIGER-KAMBER | ANNA | MARIA ELIZABETH
SCHULTZ | CHRISTOPHER | ANDREW
SCHWAERZLER | KATHLEEN | MARY
SCHWARZ | REBECCA | SELINA
SCHWARZ | STEPHANIE | MARIE
SCHWINDT | CRAIG | WARD
SCHWYN | PAUL | JAKOB
SCIALFA | CHARLES | THOMAS
SCICLUNA | LORAINE | JEAN
SCINTO IV | DANIEL | ANDREWS
SCOTT | ELEANOR | JESSICA WYNETH
SCULLY | SUE | KYONG
SEGAL | SYLVIA | LISETTE
SEGUIN | MARIE | CLAUDEL
SEIDEL ROGENMOSER | BIRGIT
SEIP | JEFFREY | DAVID
SEITHER | BERNHARD | KARL
SELVIK | ANNE | BRITT
SERRES | MICHAEL
SEUNG | ROBERT | BUMSOO
SEUSS | ELLEN | ERIKA
SHANTZ | MARIAN | FAY
SHAPIRO | MARK
SHARARA | MOHAMED
SHARP | LON | BERNAL
SHEA-BUDGELL | MELISSA | ANNE
SHEPPARD | LAUREL | BETH
SHERIDAN | WAYNE | PATRICK
SHERMAN | MICHAEL
SHIMAMOTO | LAURA | CASTERLINE
SHOUL | ETHEL | BARBARA
SHUE | KAREN | LESLIE
SIAO | GEORGE | HOWARD
SIEBENMANN | RUTH | ELISABETH
SILBER | DANIEL | TERENCE
SINGER | CLAUDINE
SINGH | MANJIT
SKARDA | NICOL
SKIERKA | ROGER | LELAND
SKIERKA | TRACI | LYNN
SLABOSZEWICZ | VICTORIA | CAROLINE MARIA
SLENTZ | PATRICIA | JEAN
SLIWA | NADEZHDA
SMITH | ELLEN | SARAH JANE
SMITH | MARGARET | M
SMITH | WILLIAM | KHAN
SOHM | VANESSA | LANETT
SOLBERG | KEVIN | TIMOTHY
SOLLER | BENJAMIN
SOLNIK | VINCENT | ALEXANDRE
SOMMERFELDT | THERON | DREW
SON | GIL | BOK
SOUTHERN | PETER | JOHN
SPALDING | KERRY | CAROLINE
SPALDING | RICHARD | JAMES
SPEH | PATRICIA | ESHELMAN
SPENCER | SILAS | PAUL
SPIELMANN | SARAH | MICHELE
SPONAGEL | BEAT | TOBIAS
SPONAGEL | LUCAS | DAVID
SRAGOVICZ | GABRIEL
ST JOHNSTON | THOMAS | ANDREW
STADLER | MICHAEL | LUCIUS
STAEHLI | MELINA | JOELLE
STAENBERG | JILL | ALISON
STALLEY | ELLEN | MAY
STAUFFER | SCOTT | DAVID
STEINBERG | PAULA | EMILE
STEINEBRUNNER | FELIX | ADRIANOS
STEINEMANN | PASCAL | PATRICK
STEINER | EVELYN | JACOBSON
STEINMANN | RUDOLF
STENBOCK-FERMOR | ALEXIS
STOLL | ALAIN | HENRI
STONE | GUY | BENIAH
STRANG | GRAEME | IAN
STREIT | VIRGINIA | MARGARITE
STRICKLAND | JULIA | MARGARET
STRUB | BENEDIKT | SAMUEL
STUART | THERESE | CHRISTINE OLEARY
STUER | SCOTT | JULES
STURDY | LESLIE | ANN
SUCKFUELL | MARKUS | MICHAEL
SUED | DALIA | KATHERINE
SUESS | FRANK
SUESS | PHYLISS | STEFANIE
SUH | SOON | HEE
SUN | JUOLUN | LAUREN
SURIKOV | CYRIL
SWAN | JULIA | COREEN
SWANSON | MICHAEL | JOSEPH
TAKANASHI | CHRISTINE | MIKA
TALBERT | ELIZABETH | MARY
TANG | HING-PANG | DONMANY
TAVARES | JOAO | LUIS RIBEIRO
TAVERNIER | BARBARA | ANNE
TAWFIK | MUSAB | MUNDHIR
TAYMANS | FRANCOIS | ROBERT MARIE JEAN
TEDESCO | LORI | ELLEN
TEMPLE | BONNIE | JILL
TEMPLE | KIRK | COLLINS
TESSLER | LISA | SUSAN
THANG | FELIX
THEUX | NICHOLAS | FRANCO LOWEN
THOMAE | DIANA | LUCILE
THOMAS | CLIO | SASKIA THONGER
THOMAS | DAVID | JAMES
THOMAS | PHILIPPE | ALAIN
THOMAS | RICHARD | PETRUS
THOMMEN | REBEKKA
THOMPSON | LINDA | SUE
THOMPSON | STEPHEN | RUSSELL
THONNART | VINCENT | ANDRE
THORNTON | TRASZHA
THULER | SABINE
TIELENS | ERIKA | INGRID
TIETJE | KAI
TO | BRIAN | EDWARD
TO | FLORA | WING SZE
TOBLER | PETER | PAUL
TOMAN | MELANIE | VICTORIA
TOONE | ADRIENNE
TOOP | MARIE-THERESE
TORDOFF | JUSTINE | CHARLOTTE
TRACOL | LAURENCE | VERONIQUE CORINNE
TRANTER | JEANETTE | DENISE RASMUSSEN
TRETHEWAY | DANIEL | GLENN
TROST | MINELLA
TSAI | HOA | LUONG
TSAO | GUANG-TSANN
TSAO | KENNY
TSCHYRKOW | NATHALIE
TSUJITA | SHOGO
TSUNG | PETER | SHAW-HO
TSUNG | SAMANTHA | SHAW-PING
TURNER | DENNIS | CLAIR
TUTTLE | KEVIN | JOHN
TYSON | INGRID | MARIE
UHLMANN | SASHA | JOBIM SATYA
USHER | LAURIE | FRANCES
VACCARO | JESSICA | SILKE
VADER | AMELIA | MUNIRIH
VALENTA | MATHIAS | JULIUS FERBER
VALIQUETTE | TARA | ANNE
VALLEE | YVES | DANIEL
VALLIERE | JANICE
VALLOTTON | JACQUES | CHRISTIAN
VAN ACKER | PHILIP | MARCEL
VAN BORREN | MARGOT | PAULINE
VAN BOXTEL | MARGOT | ELISABETH HUBERTINE
VAN DEELEN | LAURA | DIANE
VAN DEN HERIK | BRENDA
VAN DEN OSTENDE | GAETAN | PAUL
VAN DER LANDE | ALBERTINE | ELIZABETH MARGUERITE
VAN DER MEULEN | MARYLEE | JOYCE
VAN DER PLANCKE | JEAN-MARC | FRANCOIS ROBERT
VAN LANDUYT | NICHOLAS | ETIENNE
VAN LANDUYT | PHILIP | JOSEPH
VAN RAVENSTEIN | HENRIETTE | ROSALIE ADA MARIA
VAN ROECHOUDT | MADELEINE | SUZANNE
VAN VEEN | GILBERT | WILLEM
VAN WOLLINGEN | JESSE | ROELOF
VAN ZANDT | RACHEL | EATON RUSSELL
VANDIVERE | DEREK | ALAN
VANKNIPPENBERGH | ROBERT | JACOBUS
VASELLA | MAURO | GIOVANNI
VECHTER | JOSHUA | SIMON
VERNIERES | ALEXIS | CHRISTIAN MICHAEL
VERNON | ALEXIS | JOANNE
VESNAVER | LISA | PATRICIA
VINGE | KAREN | EVELYN
VITELLI | PIERO
VIZE | PETER | DARREN
VOGEL | ANNA | KARIN
VOGEL | JANIS | RANAE
VOGT HAUTER | ELLEN | SUSIE
VOLLENWEIDER | MARIE-LAURE | ELIZABETH
VON DER WENSE | SUSAN | BARBARA
VON FELDAU HANCOCK | MARGARET | JEAN
VOS | MARK | JOHANNES
VUARIDEL | AMBROISE | ROGER
WACASEY | JENNIFER | LEE
WAISBERG | JODIE | LOREN
WALKER | DAVID | CABOT
WALKER | DIANE | CAROL
WALKER | SANDRA
WALKER | WILLIAM | KIMBERLY
WALSH | AURA | CECILIA
WALSH | NATALIE | TOVE
WALSH | SEAN | FALKENBERG ANDRE
WALSTON | DAVID | CHARLES
WANG | DAVID
WANG | KUO-YING
WANG | MAOCHANG
WANG | SCARLETT | YU
WANG | THOMAS | CHOON
WANSKE | CAROL | KOEPPEL
WARMINGTON | JAMES | LIM
WASOW | ANNE | ELIZABETH
WASSMER | ADELHEID
WATKINS | JONATHAN | DEVEREUX
WAUMANS | KRIS
WAYRETHMAYR | YASUKO
WEATHERLEY | DARYL
WEBER | SABRINA | MICHELLE
WEBER | THOMAS | CHRISTIAN
WEBSTER | STEVEN | HAYDEN
WEIKL | CHRISTIAN | THOMAS
WEINHEIMER | CYRUS | RICHARDSON
WEIR | MARINA
WEISERBS | DAVID | PAUL PHILIPPE
WELLS | JOHANNA
WELSH | RITA | JEAN STOER
WEN | TRACY
WENGER | DAVID | STEVEN
WENNER | BARBARA | FRANCES
WENZIKER | LINDA
WESTON | CASPAR | TOBIN
WHIPKEY | STUART | JAMES
WHITEHEAD | BRIAN | HOWARD
WHITMORE | TESS | LARISSA
WIDLER | CATHRINE | CAROLINE
WIEBUSCH | ADRIENNE | BROMBAUGH
WIESMANN-MUNZ | DORIS | ERIKA
WIESNER | STEVEN | PAUL
WILDE | THOMAS | JAMES
WILKINS | SARAH | JANE
WILLIAMS | DEBRA | JEAN
WILLIAMS | KATHARINA | ESTELL PATRICIA
WILLIAMS | TINA | WATTS
WILLIAMSON | DOUGLAS | WAYNE
WILLIS | BARBARA
WILLIS | RANDOLPH | KENT
WILLMOTT | GLENN | ALLAN
WILSON | CHARLES | HAMANN
WILSON | CHRISTOPHER | ROBERTSON
WILSON | CYNTHIA | ANN
WILSON | JANE | ELIZABETH
WINEGARTEN | AVRIL | RUTH
WINGFIELD | ANNA
WINSLADE | PAUL | ELLIOTT
WINTER | MARK
WIRTH | CHRISTIAN | NIKLAUS
WOLCOUGH | VICTORIA | WENDELL
WOLF | SABINE | EVA
WOLFE | CHRISTINA | ROSEMARY SARA
WONG | GLENN | TULSA
WONG | SO | NUI AMY
WONG | VINCENT | HIN KEI
WOOD | JOHN | FIRBANK
WOOD | MARGARET | SUSAN
WOODFORD-HOLLICK | GEORGINA
WOODRUFF | PETER | ARTHUR
WOODWORTH | VIRGINIA | RENNEE
WOU | CONSTANCE | CHEN-HWA
WRIGHT | ALISON | GRACE
WRIGHT | TIMOTHY | JAMES
WRINKLE | GAIL | ERIN KELLY
WU | SELENA | TSAN
WUTHOLEN | MARINA | VALERIE
WUWER | JACEK | MARIUSZ
WYVILL | SHAUN | PETER
YALAMANCHILI | SUSHMA | S
YANG | YU | CHING
YAP | PAULINE
YASSIN | NA'AMAN | H
YAU | EMILY | GUADALUPE
YEUNG | JASPER
YI | SUNG | HI
YU | PIK | KI
YU | SUK | HUI
ZABOLOTSKIKH | ALEXEY
ZANDER | ELIZABETH | JANE
ZAYAC | SUCHONG | CHAE
ZEHNDER | REGINA | JOAN
ZESCHIN | ELIZABETH | ANNE
ZHU | SU
ZINSER | EMILY | CLAIRE
ZURMUEHLE | CINDY | LOUISE
ZWAHLEN | JUDIT | CECILIA

Dated: October 24, 2016.
Maureen Manieri,
Manager Classification Team 82413, Examinations Operations—Philadelphia Compliance Services.

[FR Doc. 2016-27108 Filed 11-9-16; 8:45 am]

BILLING CODE 4830-01-P